DEPARTMENT OF COMMERCE

National Oceanic and Atmospheric Administration

Agency Information Collection Activities; Submission to the Office of Management and Budget (OMB) for Review and Approval; Comment Request; NMFS Implementation of International Trade Data System

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 23, 2022 (87 FR 58065) during a 60-day comment period. This notice allows for an additional 30 days for public comments.

Agency: National Oceanic & Atmospheric Administration (NOAA), Commerce.

Title: NMFS Implementation of International Trade Data System.

OMB Control Number: 0648-0732.

Form Number(s): None.

Type of Request: Regular submission (extension of a current information collection).

Number of Respondents: 2,380 per year.

Average Hours per Response: International Trade Fisheries Permits, 20 minutes; Dataset submission in ITDS/ACE, 18 minutes; Audit Response, 30 minutes; Supply Chain Recordkeeping, 16 minutes.

Total Annual Burden Hours: 86,793 hours.

Needs and Uses: The National Marine Fisheries Service (NMFS) Office of International Affairs, Trade, and Commerce requests a regular submission of the extension of a current information collection. The Security and Accountability for Every Port Act of 2006 (SAFE Port Act, Pub. L. 109-347) requires all Federal agencies with a role in import admissibility decisions to collect information electronically through the International Trade Data System (ITDS). The Department of the Treasury has the U.S. Government lead on ITDS development and Federal agency integration. U.S. Customs and Border Protection (CBP) developed the Automated Commercial Environment (ACE) as an internet-based system for the collection and dissemination of information for ITDS. The Office of Management and Budget (OMB), through its e-government initiative, oversees Federal agency participation in ITDS, with a focus on reducing duplicate reporting across agencies and migrating paper-based reporting systems to electronic information collection. Numerous Federal agencies are involved in the regulation of international trade and many of these agencies participate in the decision-making process related to import, export, and transportation. Agencies also use trade data to monitor and report trade activity. NMFS is a partner government agency in the ITDS project as it monitors the trade of certain fishery products. Electronic collection of seafood trade data through a single portal has resulted in an overall reduction of the public reporting burden and the agency's data collection costs, has improved the timeliness and accuracy of admissibility decisions, and has increased the effectiveness of applicable trade restrictive measures.

NMFS is responsible for implementation of trade measures and monitoring programs for fishery products subject to the documentation requirements of Regional Fishery Management Organizations (RFMOs) and/or domestic laws. RFMOs are international fisheries organizations, established by treaties, to promote international cooperation to achieve effective and responsible marine stewardship and ensure sustainable fisheries management. The United States is a signatory to many RFMO treaties, and Congress has passed legislation to carry out U.S. obligations under those treaties, including trade measures to support conservation. Trade measures and monitoring programs enable the United States to exclude products that do not meet the RFMO criteria for admissibility to U.S. markets.

Pursuant to domestic statutory authorities and/or multilateral agreements, NMFS has implemented a number of monitoring programs to collect information from the seafood industry regarding the origin of certain fishery products. The purpose of these programs is to determine the admissibility of the products in accordance with the specific criteria of the trade measure or documentation requirements in effect. The three NMFS trade monitoring programs originally included in the OMB information collection approved under Control Number 0648-0732 are the Highly Migratory Species International Trade Program (HMS ITP) which regulates trade in specified commodities of tuna, swordfish, billfish, and shark fins; the Antarctic Marine Living Resources (AMLR) trade program which regulates trade in Antarctic and Patagonian toothfish and other fishery products caught in the area where the Convention on the Conservation of Antarctic Marine Living Resources (CCAMLR) applies; and the Tuna Tracking and Verification Program (TTVP), which regulates trade in frozen and/or processed tuna products (refer to 50 CFR 216.24(f)(2)(iii) for a complete list).

Separately, NMFS initially received approval from OMB for the Seafood Import Monitoring Program (SIMP) under Control Number 0648-0739. NMFS implemented SIMP under the authority of the Magnuson-Stevens Fishery Conservation and Management Act (MSA). Section 307(1)(Q) of the MSA prohibits the importation of fish or fish products that have been harvested in violation of a foreign law or regulation, or in contravention of a binding conservation measure of an RFMO to which the United States is a contracting party. Under SIMP, information on the harvest event must be submitted in ACE as part of the entry filing for designated fish products to allow NMFS to determine that the fish or fish products were lawfully acquired and are therefore admissible into U.S. commerce. In 2019, NMFS included shrimp and abalone entries in SIMP, and received initial OMB approval for the additional reporting burden for shrimp and abalone entries under a separate Control Number (0648-0776).

In the 2020 collection renewal of 0648-0732, OMB granted the NMFS request to merge all the trade monitoring programs under one collection, which incorporated the reporting burdens associated with collections 0648-0739 and 0648-0776 within the scope of 0648-0732. Generally, these trade monitoring programs are similar and require anyone who intends to import, export, and/or re-export regulated species to obtain an International Fisheries Trade Permit (IFTP) from NMFS; obtain documentation on the flag-nation authorization for the harvest from the foreign exporter; and submit this information to NMFS. Depending on the commodity, specific information may also be required, such as the flag-state of the harvesting vessel, the ocean area of catch, the fishing gear used, the harvesting vessel name, and details and authorizations related to harvest, landing, transshipment, and export.

Affected Public: Business or other for-profit organizations; Federal government.

Frequency: Annual trade permits; electronic reports upon import/export; provision of supply chain documents when selected for audit.

Respondent's Obligation: Required to Obtain or Retain Benefits.

Legal Authority: 16 U.S.C. 1385, 16 U.S.C. 1826(a), 16 U.S.C. 971(a), 19 U.S.C. 1411.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0732.

Sheleen Dumas,
Department PRA Clearance Officer, Office of the Chief Information Officer, Commerce Department.

[FR Doc. 2023-02547 Filed 2-6-23; 8:45 am]

BILLING CODE 3510-22-P